DEPARTMENT OF DEFENSE

Department of the Navy

[Docket ID: USN-2015-0003]

Privacy Act of 1974; System of Records

AGENCY: United States Marine Corps, DoD.

ACTION: Notice to alter a system of records.

SUMMARY: The U.S. Marine Corps proposes to alter the system of records, M05100-6, entitled “MCB Camp Lejeune Historic Drinking Water Notification Registry” in its inventory of record systems subject to the Privacy Act of 1974, as amended.

This system is used to obtain and maintain contact information of people who may have been exposed to contaminated drinking water at Marine Corps Base Camp Lejeune or persons interested in the issue. Information is used to notify, update, or correspond with registrants.

DATES: Comments will be accepted on or before April 22, 2015. This proposed action will be effective the day following the end of the comment period unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Sally A. Hughes, Head, FOIA/PA Programs (ARSF), Headquarters, U.S. Marine Corps, 3000 Marine Corps Pentagon, Washington, DC 20350-3000, telephone (703) 614-3685.

SUPPLEMENTARY INFORMATION: The U.S. Marine Corps' notices for systems of records subject to the Privacy Act of 1974 (5 U.S.C. 552a), as amended, have been published in the Federal Register and are available from the address in FOR FURTHER INFORMATION CONTACT or from the Defense Privacy and Civil Liberties Office Web site at http://dpcld.defense.gov/.

The proposed system report, as required by 5 U.S.C. 552a(r) of the Privacy Act of 1974, as amended, was submitted on December 16, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 17, 2015.
Aaron Siegel,
Alternate OSD Federal Register Liaison Officer, Department of Defense.

M05100-6

System name:

MCB Camp Lejeune Historic Drinking Water Notification Registry (December 14, 2009, 74 FR 66111).

Changes:

* * * * *

System Location:

Delete entry and replace with “Marine Corps Installations East G6, Bldg. 24, McHugh Blvd., Camp Lejeune, NC 28542-0004.”

Categories of Individuals Covered by the System:

Delete entry and replace with “Active duty, Reserve, retired, and separated service members; military dependents, Federal government employees and civilian personnel who were stationed, lived, or were employed aboard Marine Corps Base Camp Lejeune, North Carolina, in 1987 or before; and individuals interested in the Camp Lejeune historic drinking water issue.”

Categories of Records in the System:

Delete entry and replace with “Full name, current address, phone number, and email address.”

Authority for Maintenance of the System:

Delete entry and replace with “10 U.S.C. 5041, Headquarters, U.S. Marine Corps: Function; composition, and PL 110-181, Sec. 315, Notification of Certain Residents and Civilian Employees at Camp Lejeune, North Carolina, of Exposure to Drinking Water Contamination.”

Purpose(s):

Delete entry and replace with “The purpose of this system is to obtain and maintain the contact information of people who may have been exposed to contaminated drinking water at Marine Corps Base Camp Lejeune or persons interested in the issue. Information is used to notify, update, or correspond with registrants.”

Routine Uses of Records Maintained in the System, Including Categories of Users and the Purposes of Such Uses:

Delete entry and replace with “In addition to those disclosures generally permitted under 5 U.S.C. 552a(b) of the Privacy Act of 1974, as amended, the records contained in the system may specifically be disclosed outside the DoD as a routine use pursuant to 5 U.S.C. 552a(b)(3) as follows:

Pursuant to 5 U.S.C. 522a(b)(8) to federal and state public health and environmental agencies in the performance of their official duties related to the protection and study of human health and the environment as affected by potential exposure to toxic contamination.

To the Department of Veterans Affairs (DVA) for the purpose of providing medical care to former service members and retirees, to determine the eligibility for or entitlement to benefits, to coordinate cost sharing activities, and to facilitate collaborative research activities between the DoD and DVA.

To officials and employees of the Agency for Toxic Substances and Diseases Registry (ATSDR) to facilitate ATSDR research activities.

The DoD Blanket Routine Uses that appear at the beginning of the Marine Corps' systems of records notices may apply to this system.”

* * * * *

Retrievability:

Delete entry and replace with “Records may be retrieved by name, current address, phone number, or email address.”

Safeguards:

Delete entry and replace with “The database servers are located in a secure area at Marine Corps Base Camp Lejeune. Access to records is limited to person(s) responsible for servicing the record in the performance of their official duties and who are properly screened and cleared for need-to-know. System software uses Primary Key Infrastructure (PKI)/Common Access Card (CAC) authentication to lock out unauthorized access.”

Retention and Disposal:

Delete entry and replace with “Destroy 50 years after Camp Lejeune is deleted from the National Priorities List.”

System Manager(s) and Address:

Delete entry and replace with “Marine Corps Installations East G6, Bldg. 24, McHugh Blvd., Camp Lejeune, NC 28542-0004.”

Notification Procedures:

Delete entry and replace with “Individuals seeking to determine whether information about themselves is contained in this system should address written inquiries to Marine Corps Installations Command, 3000 Marine Corps Pentagon, Room 2D153A, Washington, DC 20350-3000.

Written requests should contain full name and must be signed and notarized.”

Record Access Procedures:

Delete entry and replace with “Individuals seeking access to information about themselves contained in this system should address written inquiries to Marine Corps Installations Command, 3000 Marine Corps Pentagon, Room 2D153A, Washington, DC 20350-3000.

Written requests should contain full name and must be signed and notarized.”

* * * * *

[FR Doc. 2015-06507 Filed 3-20-15; 8:45 am]

BILLING CODE 5001-06-P